DEPARTMENT OF AGRICULTURE

Forest Service

Caribou-Targhee National Forest, Idaho; Aspen Range Timber Sale/Vegetation Treatment

AGENCY: Forest Service, USDA.

ACTION: Notice of intent to prepare an environmental impact statement.

SUMMARY: The Soda Springs Ranger District, Caribou-Targhee National Forest will be preparing an Environmental Impact Statement (EIS) to analyze the effects of commercial harvest of conifer trees, prescribed fire, realignment or surface improvement of old roads, and construction of fuel breaks in the Aspen Range analysis area. The legal description for this proposal is T. 8 S., R. 43 E., sections 27, 28, 29, 30, 31, 32, 33 and 34. T. 9 S., R. 43 E., sections 2, 3, 4, 5, 6, 7, 8, 9, 10, 11, 17 and 18 of the Boise Meridian, Caribou County.

DATES: Written comments concerning the scope of the analysis must be received within 30 days of the date of publication of this notice in the Federal Register. The draft environmental impact statement is expected October 2003 and the final environmental impact statement is expected February 2004.

ADDRESSES: Send written comments to Soda Springs Ranger District, Attn: David Whittekiend, 421 W. 2nd S., Soda Springs, ID 83276.

FOR FURTHER INFORMATION CONTACT: Questions concerning the proposed action and EIS should be directed to Doug Heyrend, Forester, (208) 547-4356.

SUPPLEMENTARY INFORMATION:

Purpose and Need for Action

The primary purpose of the project is to:

• Provide sawtimber on a sustained-yield basis.

• Release aspen from competing conifer and convert back to early seral species.

• Reduce conifer stand densities to improve vigor.

• Reduce fuel loads in the project area and stands bordering residential homes/cabins along the northwest forest boundary of the Trail Canyon area.

• Reduce sediment and maintenance on roads in project area.

Proposed Action

The proposal is to tractor harvest 881 acres of Douglas-fir, aspen/Douglas-fir and lodgepole pine stands using a variety of silviculture prescriptions. The harvest would be followed by 1,350 acres of prescribed fire to increase aspen cover types and reduce fuel loads in the 12,000 acre analysis area. The harvest volume is anticipated to be about 4.5 million board feet from two timber sales.

Irregular shelterwood/aspen regeneration silvicultural treatments proposed for 590 acres would be the dominant harvest prescription. The prescription would provide flexibility for aspen regeneration, snag preservation, remnant old growth retention and old growth replacement in situations of Douglas-fir bark beetle mortality. The objective for aspen regeneration is to incorporate the majority of the aspen clone for treatment. All aspen treatment areas would use prescribed fire for fuels treatment and site preparation to simulate the natural disturbance for aspen vegetative reproduction by suckers. Larger units that utilize coarse woody debris as barriers increase the success of aspen regeneration by having better dispersion of wild and domestic browsing/grazing animals across treated areas. Temporarily fencing portions of treated areas may be required to ensure regeneration.

Stand improving commercial thinnings and shelterwoods are planned for 196 acres. The focus of harvest activity would be on removing suppressed and intermediate trees to provide crown spacing and growing room (15-30 foot spacing) for residual dominant trees. Natural regeneration will occur over time but would not be immediately necessary to meet stocking standards. Machine fuels treatment (piling) would take place in the 55 acres of shelterwood prescription stands closest to the archery range and a 39 acre stand in North Sulfur Canyon. Prescribed broadcast fire would be used for site preparation of early seral vegetation and fuel treatment on the remaining 102 acres.

The only lodgepole stand planned for harvest is behind the archery range (this area is under special use permit to the Caribou Archers).

A seedtree/improvement cut is proposed for the 39 acre stand. Seedtrees would provide natural regeneration in areas of stand decline and the improvement cut to ensure visual protection along the archery range corridor. Site preparation and fuels treatment (piling) for the stand would be mechanical.

Prescribed broadcast fire would be used in most mechanical treatments as well as some naturally occurring stands to reduce fuels and convert vegetation to early seral species. Standing dead and cull green material is expected to replace down dead woody debris consumed by broadcast burning. Generally the window for burning in this area is late spring and early fall depending on weather patterns. Firelines would be mechanically constructed using as many natural openings, ridge tops, roads and terrain barriers as possible. The stands adjacent to the archery range and residential area would be mechanically treated without a broadcast fire.

A constructed quarter mile fuelbreak along the northwest forest boundary of the analysis area would meander across the north edge of the 56 acre stand using as many natural openings and barriers as possible. The proposal is to remove standing dead, down dead, small diameter trees, dense brush and provide crown spacing between mature trees. Pockets of small-diameter conifer encountered within the fuelbreak would be thinned to 14 to 20 foot spacing, and pruned to remove ladder fuels.

Heavy equipment will only be used on ground less than 40 percent slope. Merchantable logs within the fuelbreak on feasible tractor ground would be skidded up hill to a landing. All unmerchantable material would be hand or machine piled and burned in the fall following substantial snow accumulation. Work in the riparian area would be completed by hand with chainsaws. The stand is not proposed for broadcast burning.

Two miles of existing old system roads (20574, 20126 & 20297) are proposed for realignment to decrease ongoing erosion damage, maintenance costs and to facilitate harvest equipment. Up to 6.2 miles of existing and constructed temporary road would be required for harvest activities. All constructed temporary roads and old road segments that have been replaced with new alignment would be fully obliterated. Road segments that are currently managed as a multiple use trails will be retained. A thumb bucket excavator will be used to obliterate unnecessary roads. Road obliteration would consist of recontouring slopes, channels and incorporating debris across the prism followed by seeding with the appropriate native mix.

Short sections of gravel surface replacement would be needed throughout the sale area.

Responsible Official

The responsible official for this decision is Jerry Reese, Caribou-Targhee National Forest Supervisor.

Nature of Decision To Be Made

Should timber harvest, road construction, road obliteration, fuel treatments, vegetation treatments and road management activities be implemented in the project area at this time, and if so, under what conditions?

From a variety of site-specific alternatives, based on the silvicultural needs for portions of stands or entire stands, one alternative will be selected.

Comment Requested

This notice of intent initiates the scoping process which guides the development of the environmental impact statement. The Forest Service invites written comments and suggestions on the issues related to the proposal and the area being analyzed. Information received will be used in preparation of the draft EIS and Final EIS. For most effective use, comments should be submitted to the Forest Service within 30 days from the date of publication of this Notice in the Federal Register.

Agency Representatives and other interested people are invited to visit with Forest Service officials at any time during the EIS process. Two specific time periods are identified for the receipt of formal comments on the analysis. The two comments periods are, (1) during the scoping process, the next 30 days following publication of this Notice in the Federal Register, and (2) during the formal review of the Draft EIS.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: March 11, 2003.
Jerry B. Reese,
Caribou-Targhee Forest Supervisor.

[FR Doc. 03-11731 Filed 5-9-03; 8:45 am]

BILLING CODE 3410-11-M